DEPARTMENT OF HEALTH AND HUMAN SERVICES

Administration for Children and Families

Submission for OMB Review; ACF Uniform Project Description (UPD)

AGENCY: Office of Administration, Office of Grants Policy, Administration for Children and Families, HHS.

ACTION: Request for public comment.

SUMMARY: The Administration for Children and Families (ACF) is requesting a 3-year extension of the ACF Uniform Project Description (UPD) (OMB #0970-0139, expiration 2/28/2022). There are no changes requested to the form. ACF expects to submit a request for revisions in 2022, which will include standard comment periods.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also request copies of the proposed collection of information by emailing infocollection@acf.hhs.gov. Identify all requests by the title of the information collection.

SUPPLEMENTARY INFORMATION:

Description: The proposed information collection would renew the ACF UPD. The UPD provides a uniform format for applicants to submit project information in response to ACF discretionary Notices of Funding Opportunities. The UPD requires applicants to describe how program objectives will be achieved and provide a rationale for the project's budgeted costs. All ACF discretionary grant programs are required to use the UPD.

ACF uses this information, along with other OMB-approved information collections (Standard Forms), to evaluate and rank applications. Use of the UPD protects the integrity of the ACF award selection process.

Respondents: Applicants responding to ACF Discretionary Notices of Funding Opportunities.

Annual Burden Estimates
Instrument | Total number of respondents | Annual number of responses per respondent | Average burden hours per response | Annual burden hours
ACF Uniform Project Description | 4,170 | 1 | 60 | 250,200

Estimated Total Annual Burden Hours: 250,200.

Authority: 45 CFR 75.203-75.204 and 45 CFR part 75, Appendix I.

Mary B. Jones,
ACF/OPRE Certifying Officer.

[FR Doc. 2022-02177 Filed 2-2-22; 8:45 am]

BILLING CODE 4184-01-P